DEPARTMENT OF TRANSPORTATION

Federal Transit Administration

49 CFR Part 665

[Docket No. FTA-2011-0015]

RIN 2132-AB01

Bus Testing: Calculation of Average Passenger Weight and Test Vehicle Weight, and Public Meeting and Extension of Comment Period

AGENCY: Federal Transit Administration (FTA), DOT.

ACTION: Notice announcing conference call and extension of comment period of proposed rulemaking.

SUMMARY: The Federal Transit Administration (FTA) is hosting a conference call to address issues concerning its notice of proposed rulemaking (NPRM) regarding the calculation of average passenger weights and test vehicle weights. The purpose of this conference call is to allow the public to ask questions and to clarify any misunderstandings regarding the NPRM published on March 14, 2011 (76 FR 13580). Furthermore, due to the complexity of the issues proposed in the NPRM, FTA is extending the comment period to June 15, 2011, to allow interested parties time to carefully review the actual changes proposed in the NPRM and the information presented during the conference call.

DATES: Comments should be submitted before June 15, 2011. Late-filed comments will be considered to the extent practicable.

Conference Call Date: FTA will hold the conference call on Wednesday, June 1, 2011, commencing at 2 p.m., Eastern Daylight Time. Interested parties are invited to call 1-877-407-0183 and enter Participant Code 681759. Note that the conference call is only for information purposes and commenters must submit their comments to the official docket in order to have them considered by FTA.

ADDRESSES: You may submit comments to DOT Docket ID Number FTA-2011-0015 by any of the following methods:

Federal eRulemaking Portal: Go to http://www.regulations.gov and follow the online instructions for submitting comments.

Mail: Docket Management Facility: U.S. Department of Transportation, 1200 New Jersey Avenue, SE., West Building, Ground Floor, Room W12-140, Washington, DC 20590-0001.

Hand Delivery or Courier: West Building Ground Floor, Room W12-140, 1200 New Jersey Avenue, SE., between 9 a.m. and 5 p.m. ET, Monday through Friday, except Federal holidays.

Fax: 202-493-2251.

FOR FURTHER INFORMATION CONTACT: For technical information, Gregory Rymarz, Bus Testing Program Manager, Office of Research, Demonstration, and Innovation (TRI), (202) 366-6410, gregory.rymarz@dot.gov. For legal information, Richard Wong, Office of the Chief Counsel (TCC), (202) 366-0675, richard.wong@dot.gov.

SUPPLEMENTARY INFORMATION: On March 14, 2011, FTA published an NPRM in the Federal Register (76 FR 13850) proposing to amend its bus testing procedures to more accurately reflect average passenger weights and actual transit vehicle loads. Specifically, FTA proposed to change the average passenger weight from 150 lbs to 175 lbs. In addition, FTA proposed to change the floor space occupied per standing passenger from 1.5 to 1.75 square feet, and update the Structural Strength and Distortion test procedures.

FTA is aware that the proposal has been the subject of some mischaracterizations, causing interested parties to have misperceptions regarding the NPRM's actual impact and intent. During the conference call, FTA staff will summarize its proposals in the NPRM and will be available to answer questions regarding those proposals. This is an opportunity for affected parties to receive clarification regarding the content of the NPRM. The conference call is not, however, an opportunity to submit comments to FTA regarding the proposals contained in the NPRM. Rather, interested parties should submit their comments to the docket for this rulemaking as described in the ADDRESSES section of this notice.

In addition, because of the scheduling of the conference call and the apparent confusion regarding the issues proposed in the NPRM, FTA is extending the comment period until June 15, 2011. This additional time should be sufficient to allow interested parties to review and submit final comments following information conveyed during the conference call.

Issued this 12th day of May 2011.
Therese McMillan,
Deputy Administrator.

[FR Doc. 2011-12292 Filed 5-18-11; 8:45 am]

BILLING CODE P